DEPARTMENT OF ENERGY

Office of Energy Efficiency and Renewable Energy

[Docket No. EERE-2013-BT-BC-0036]

Activities and Methodology for Assessing Compliance With Building Energy Codes

AGENCY: Office of Energy Efficiency and Renewable Energy, Department of Energy.

ACTION: Notice of reopening of public comment period.

SUMMARY: The U.S. Department of Energy (DOE) is re-opening the public comment period for a Request for Information (RFI) seeking stakeholder input on the process by which DOE will utilize and make available to states to evaluate compliance with building energy codes and general approaches towards compliance, made available for public comment on August 6, 2013. (78 FR 47677) This is being done in response to multiple stakeholder requests.

DATES: The public comment period ended on September 5, 2013. The comment period is being re-opened and will close on September 30, 2013.

ADDRESSES: Interested persons are encouraged to submit comments electronically. However, comments may be submitted by any of the following methods:

• Email to the following address: STCodeCompliance2013BC0036@ee.doe.gov. Include docket number EERE-2013-BT-BC-0036 in the subject line of the message.

• Federal eRulemaking Portal: www.regulations.gov. Follow the instructions for submitting comments.

• Postal Mail: Ms. Brenda Edwards, U.S. Department of Energy, Building Technologies Office, Mailstop EE-2J, Request for Information for Methodology for Energy Code Compliance Evaluation, Docket No. EERE-2013-BT-BC-0036, 1000 Independence Avenue SW., Washington, DC 20585-0121. Phone (202) 586-2945. Please submit one signed paper original.

• Hand Delivery/Courier: Ms. Brenda Edwards, U.S. Department of Energy, Building Technologies Office, 6th Floor, 950 L'Enfant Plaza SW., Washington, DC 20024. Phone: (202) 586-2945. Please submit one signed paper original.

Instructions: All submissions received must include the agency name and docket number.

Docket: The docket is available for review at www.Regulations.gov. All documents in the docket are listed in the index. A link to the docket Web page can be found at http://www.regulations.gov/#!docketDetail;D=EERE-2013-BT-BC-0036. The Regulations.gov Web site contains instructions on how to access all documents, including public comments, in the docket.

FOR FURTHER INFORMATION CONTACT: Ms. Kym Carey, U.S. Department of Energy, Office of Energy Efficiency and Renewable Energy, Building Technologies Program, Mailstop EE-2J, 1000 Independence Avenue SW., Washington, DC, 20585, Telephone: (202) 287-1775, Email: Kym.Carey@ee.doe.gov.

Ms. Kavita Vaidyanathan, U.S. Department of Energy, Office of the General Counsel, Forrestal Building, Mailstop GC-71, 1000 Independence Avenue SW., Washington, DC, 20585, Telephone: (202) 586-0669, Email: Kavita.Vaidyanathan@hq.doe.gov.

For information on how to submit or review public comments or view the docket, contact Ms. Brenda Edwards, U.S. Department of Energy, Office of Energy Efficiency and Renewable Energy, Building Technologies Office, Mailstop EE-2J, 1000 Independence Avenue SW., Washington, DC 20585. Telephone: (202) 586-2945, Email: Brenda.Edwards@ee.doe.gov.

SUPPLEMENTARY INFORMATION:

On August 6, 2013, DOE published a Request for Information in the Federal Register (78 FR 47677) seeking stakeholder input on the process by which DOE will utilize and make available to states to evaluate compliance with building energy codes and general approaches towards compliance. The comment period ended on September 5, 2013. Multiple stakeholders including the Responsible Energy Codes Alliance, National Association of State Energy Officials, Building Codes Assistance Project, and NYSERDA requested, DOE to extend the comment period to allow additional time to review the RFI and submit comments. DOE has determined that re-opening the public comment period in response to the requests is appropriate and hereby re-opens the comment period and extends it to September 30, 2013. Please refer to the original Federal Register notice for the content of the RFI at: https://www.federalregister.gov/articles/2013/08/06/2013-18952/doe-activities-and-methodology-for-assessing-compliance-with-building-energy-codes.

Issued in Washington, DC, on September 4, 2013.
Roland Risser,
Director, Building Technologies Office, Office of Energy Efficiency and Renewable Energy.

[FR Doc. 2013-22018 Filed 9-9-13; 8:45 am]

BILLING CODE 6450-01-P